DEPARTMENT OF COMMERCE

Minority Business Development Agency

[Doc. No. 231010-0242]

Extension of Deadline for Applications to the Minority Business Enterprises Advisory Council for the Minority Business Development Agency

AGENCY: Minority Business Development Agency (MBDA), U.S. Department of Commerce.

ACTION: Notice of extension of deadline.

SUMMARY: The U.S. Department of Commerce, Minority Business Development Agency (MBDA) is extending the deadline for nominations for the Minority Business Enterprises Advisory Council (MBEAC) pursuant to the authority of the Minority Business Development Act of 2021 and the Federal Advisory Committee Act (FACA), as amended. The Council will advise the Under Secretary of Commerce for Minority Business Development on various topics impacting socially and economically disadvantaged businesses. MBDA is looking to appoint nine (9) members for the initial term of the Council. These individuals shall be from the private sector with a balanced and broad range of interests regarding the social and economic life of minority business concerns. The private sector members may include individuals from academia and think tanks, companies, chambers of commerce, financial entities, labor and trade associations, non-profit organizations, and stakeholders involved in socially and economically disadvantaged business concerns.

DATES: MBDA originally posted a solicitation for applications to the MBEAC on August 18, 2023, with an original deadline of September 18, 2023. MBDA has determined that an extension of the original deadline is warranted. MBDA will consider applications received by November 15, 2023, for potential selection to the inaugural MBEAC. Applications received after this date may be considered by MBDA as appropriate and when vacancies become available. If you have already submitted an application, MBDA will consider your application and there is no need to re-apply.

ADDRESSES: Individuals who are interested in being considered for the MBEAC must submit a resume and cover letter detailing their relevant experience to advisorycouncil@mbda.gov. If electronic submission is not feasible, submissions may be mailed to: Minority Business Development Agency (MBDA), U.S. Department of Commerce, Attn: Cara M. Morris, 1401 Constitution Ave. NW, Room 5075, Washington, DC 20230.

FOR FURTHER INFORMATION CONTACT: Cara M. Morris, Director, Business Center Excellence & Program Support, Minority Business Development Agency, U.S. Department of Commerce, Email: cmorris1@mbda.gov, 202-482-2332.

SUPPLEMENTARY INFORMATION: Please note that this notice is to extend the initial deadline for applications to the MBEAC. The original notice was published on August 18, 2023, and stated that the original deadline to receive applications was September 18, 2023. MBDA has determined that an extension to this deadline is warranted. Accordingly, MBDA will consider all applications received by [DATE 30 DAYS AFTER PUBLICATION IN THE FEDERAL REGISTER], for potential selection to the inaugural MBEAC. Applications received after this date may be considered by MBDA as appropriate and when vacancies become available. If you have already submitted an application, MBDA will consider your application and there is no need to re-apply.

On November 15, 2021, the Minority Business Development Act of 2021 (Pub. L. 117-58), made permanent the Minority Business Development Agency (MBDA) and expanded MBDA's roles and authorities. Among other things, the Act mandated the creation of the Minority Business Enterprises Advisory Council (MBEAC or “the Council”).

The objective of the MBEAC is to provide group advice to the Under Secretary of Commerce for Minority Business Development on matters pertaining to the growth and global competitiveness of the nation's 9.7 million minority business enterprises (MBEs), such as identifying barriers to entrepreneurship and business growth; providing insight related to the economic conditions of socially or economically disadvantaged businesses; proposing opportunities for collaboration on and coordination of policies relating to entrepreneurship and business growth for socially and economically disadvantaged businesses; and advising on measures to better achieve MBDA's objectives. The MBEAC was established in accordance with the Federal Advisory Committee Act, as amended (FACA), 5 U.S.C. Chapter 10. See the MBEAC Charter, available at: https://gsa-geo.my.salesforce.com/sfc/p/#t0000000Gyj0/a/t0000003Gceu/9JxK.9.iqBesjToAwbbYyuYpJviXxxZC3ELQmn5Mts4. The MBDA is a dynamic organization that needs industry leaders' input with a wide range of experience and insight. Accordingly, the MBDA is soliciting applications from private sector representatives with a balanced and broad range of interests regarding the social and economic life of Minority Business Enterprises (MBEs) to serve as advisory committee members of the MBEAC. Individuals may self-nominate or be nominated by someone else.

The Council will consist of nine members from the private sector as well as at least ten members from federal agencies that support or otherwise have duties related to business formation, including duties relating to labor development, monetary policy, national security, energy, agriculture, transportation, and housing. The Council will meet 2-3 times per year and members shall serve for a term of 2 years. Members can be reappointed after the 2-year term expires.

MBDA is soliciting two types of private sector members. “Representative members” are appointed to offer insight and perspectives of clearly identified sectors and stakeholder groups. “Special Government Employee (SGE) members” are appointed for their individual expertise and experience. Special Government Employees are subject to conflict-of-interest laws and regulations, including (but not limited to) the obligation to annually file a New Entrant Confidential Financial Disclosure Report (OGE Form 450) and complete ethics training. Representative members are not subject to these requirements. Private sector members will be individually advised of the capacity in which they will serve through their appointment letters.

Please also note that members of the Council shall not be compensated for service on the Council but may be allowed travel expenses, including per diem in lieu of subsistence, in accordance with subchapter I of chapter 57 of title 5, United States Code.

Council Size and Terms:

The MBEAC will be comprised of at least 19 members (9 private sector members and at least 10 federal members). The newly appointed members will serve a two-year term and may be reappointed. If a member vacates the MBEAC before the end of the two-year term, a replacement member may be appointed to fill the unexpired term.

The membership of the Council should include expertise and viewpoints that reflect the breadth of the Council's responsibilities. MBDA is mindful that committees work best when there is a mix of viewpoints brought about through diverse experiences in different areas of the committee's responsibility by members of diverse races, genders, business and industry sectors, and cultural backgrounds. This notice will be widely distributed to encourage a diverse applicant pool.

Qualifications and Selection Criteria

Expertise and Experience: Members should possess significant expertise and experience in areas relevant to the growth and development of MBEs and the business ecosystem, such as business development, entrepreneurship, finance, policy advocacy, or related fields. Members should have insights into barriers to entrepreneurship and business growth and ways to overcome those barriers. Relevant fields include but are not limited to, access to traditional and alternative capital, public and private sector procurement, and global markets. Members should also have the ability to provide insight into relevant data, research, and policy alternatives. The selection process will prioritize relevant individuals who have demonstrated a strong track record of success in their respective fields.

Commitment to Minority Business Development: Members should have a demonstrated commitment to advancing the social and economic life of MBEs. This can be evidenced through past involvement in initiatives, projects, or policy advocacy aimed at supporting and empowering MBEs.

Sector Representation: Private Sector members will be selected from diverse backgrounds, including academia and think tanks, companies of varying sizes, chambers of commerce, financial entities, labor and trade associations, non-profit organizations, and stakeholders involved in MBE growth and development.

Geographic Representation: MBDA will consider geographic diversity in selecting members to ensure regional representation and capture expertise regarding the unique challenges and opportunities faced by MBEs in different parts of the country.

Collaborative and Teamwork Skills: Members should demonstrate the ability to work collaboratively in a team environment. This includes effective communication, problem-solving, and the ability to build consensus among diverse stakeholders.

Ability to Serve: Members must be able and willing to dedicate the necessary time and effort to fulfill their responsibilities effectively. They should have the availability to attend meetings, actively participate in Council activities, and contribute constructively to discussions and decision-making processes.

Independence and Impartiality: Applicants for Special Government Employee (SGE) membership positions must be impartial and independent, capable of providing objective advice and guidance must not have conflicts of interest that could compromise their ability to act in the best interest of MBEs.

Privacy Act Statement

The collection, maintenance, and disclosure of this information is governed by the Privacy Act of 1974 (5 U.S.C. 552a). The Department of Commerce is authorized to collect this information pursuant to authorities that include, but are not limited to, Title V, sections 100501 through 100503 of the Minority Business Development Act of 2021, Public Law 117-58 (Nov. 15, 2021), and in accordance with the Federal Advisory Committee Act, as amended (FACA), 5 U.S.C. Chapter 10. The principal purpose for which the Department will use the information is to assist in choosing private sector members of the MBEAC. Information received will be maintained in a Privacy Act system of records, COMMERCE/DEPT-11, entitled “Candidates for Membership, Members, and Former Members of Department of Commerce Advisory Committees.” A notice describing that system, including a complete set of routine disclosures, has been published both in the Federal Register and on the Department's website at: https://osec.doc.gov/opog/PrivacyAct/SORNs/dept-11.html. Although providing this information is voluntary, an individual cannot be considered for membership without an application submission.

Donald R. Cravins, Jr.,
Under Secretary for Minority Business Development, Minority Business Development Agency.

[FR Doc. 2023-22713 Filed 10-13-23; 8:45 am]

BILLING CODE 3510-21-P